DEPARTMENT OF TRANSPORTATION

Federal Aviation Administration

14 CFR Part 71

[Docket No. FAA-2013-0921; Airspace Docket No. 13-AAL-4]

Modification of Class E Airspace; Sitka, AK

AGENCY: Federal Aviation Administration (FAA), DOT.

ACTION: Final rule.

SUMMARY: This action modifies the Class E airspace at Sitka Rocky Gutierrez Airport, Sitka, AK. Controlled airspace is necessary to accommodate the new Area Navigation (RNAV) Global Positioning System (GPS) standard instrument approach procedures at the airport. This action enhances the safety and management of aircraft operations at the airport.

DATES: Effective date, 0901 UTC, May 29, 2014. The Director of the Federal Register approves this incorporation by reference action under 1 CFR Part 51, subject to the annual revision of FAA Order 7400.9 and publication of conforming amendments.

FOR FURTHER INFORMATION CONTACT: Richard Roberts, Federal Aviation Administration, Operations Support Group, Western Service Center, 1601 Lind Avenue SW., Renton, WA 98057; telephone (425) 203-4517.

SUPPLEMENTARY INFORMATION:

History

On November 21, 2013, the FAA published in the Federal Register a notice of proposed rulemaking (NPRM) to establish controlled airspace at Sitka Rocky Gutierrez Airport, Sitka, AK (78 FR 69787). Interested parties were invited to participate in this rulemaking effort by submitting written comments on the proposal to the FAA. No comments were received.

Class E airspace designations are published in paragraphs 6002 and 6005, respectively, of FAA Order 7400.9X, dated August 7, 2013, and effective September 15, 2013, which is incorporated by reference in 14 CFR 71.1. The Class E airspace designation listed in this document will be published subsequently in this Order.

The Rule

This action amends Title 14 Code of Federal Regulations (14 CFR) Part 71 by modifying Class E surface area airspace and Class E airspace extending upward from 700 feet above the surface at Sitka Rocky Gutierrez, AK. After review of the airspace, the FAAs Western Terminal Products Office found modification of the airspace necessary for the safety and management of aircraft departing and arriving under IFR operations at the airport. The segment of Class E surface area airspace southwest of the 4.1-mile radius of the airport is modified to 10 miles southwest of the airport. The segment of Class E airspace extending upward from 700 feet above the surface southwest of the 6.6-mile radius of the airport is modified to 14 miles southwest of the airport, and the segment northwest of the 6.6-mile radius of the airport is modified to 29 miles northwest of the airport. The segments of controlled airspace west and southwest of the airport are removed as they are no longer required for aircraft arriving and departing under IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified this rule, when promulgated, does not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at the Sitka Rocky Gutierrez Airport, Sitka, AK.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 6002 Class E airspace designated as surface areas.

* * * * *

AAL AK E2 Sitka, AK [Modified]

Sitka Rocky Gutierrez Airport, AK

(Lat. 57°02′50″ N., long. 135°21′42″ W.)

Within a 4.1 mile radius of Sitka Rocky Gutierrez Airport, and within 3.5 miles each side of the airport 209° radial extending from the 4.1-mile radius to 10.5 miles southwest of the airport, and within 3 miles each side of the airport 313° radial extending from the 4.1-mile radius to 11.1 miles northwest of the airport. This Class E airspace is effective during the dates and times established in advance by a Notice to Airmen. The effective date and time will thereafter be continuously published in the Airport/Facility Directory, Alaska Supplement.

Paragraph 6005 Class E airspace areas extending upward from 700 feet or more above the surface of the earth.

* * * * *

AAL AK E5 Sitka, AK [Modified]

Sitka Rocky Gutierrez Airport, AK

(Lat. 57°02′50″ N., long. 135°21′42″ W.)

That airspace extending upward from 700 feet above the surface within a 6.6-mile radius of Sitka Rocky Gutierrez Airport, and within 4 miles each side of the airport 209° radial extending from the 6.6-mile radius to 14.5 miles south of the airport, and within 4 miles east and 8 miles west of the airport 313° radial extending from the 6.6-mile radius to 29 miles northwest of the airport; and that airspace extending upward from 1,200 feet above the surface within a 40-mile radius of lat. 56°51′34″ N., long. 135°33′05″ W.; and that airspace extending upward from 5,500 feet MSL within an 85-mile radius of lat. 56°51′34″ N., long. 135°33′05″ W.; excluding that airspace that extends beyond 12 miles from the coast

Issued in Seattle, Washington, on March 18, 2014.
Johanna Forkner,
Acting Manager, Operations Support Group, Western Service Center.

[FR Doc. 2014-06722 Filed 3-31-14; 8:45 am]

BILLING CODE 4910-13-P